DEPARTMENT OF TRANSPORTATION

Federal Aviation Administration

14 CFR Part 97

[Docket No. 30241; Amdt. No. 2045]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of changes occurring in the National Airspace System, such as the commissioning of new navigational facilities, addition of new obstacles, or changes in air traffic requirements. These changes are designed to provide safe and efficient use of the navigable airspace and to promote safe flight operations under instrument flight rules at the affected airports.

DATES: An effective date for each SIAP is specified in the amendatory provisions.

Incorporation by reference—approved by the Director of the Federal Register on December 31, 1980, and reapproved as of January 1, 1982.

ADDRESSES: Availability of matter incorporated by reference in the amendment is as follows:

For Examination—

1. FAA Rules Docket, FAA Headquarters Building, 800 Independence Avenue, SW., Washington, DC 20591;

2. The FAA Regional Office of the region in which affected airport is located; or

3. The Flight Inspection Area Office which originated the SIAP.

For Purchase—Individual SIAP copies may be obtained from:

1. FAA Public Inquiry Center (APA-200), FAA Headquarters Building, 800 Independence Avenue, SW., Washington, DC 20591; or

2. The FAA Regional Office of the region in which the affected airport is located.

By Subscription—Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd. Oklahoma City, OK. 73169 (Mail Address: P.O. Box 25082 Oklahoma City, OK. 73125) telephone: (405) 954-4164.

SUPPLEMENTARY INFORMATION: This amendment to part 97 of the Federal Aviation Regulations (14 CFR part 97) establishes, amends, suspends, or revokes Standard Instrument Approach Procedures (SIAPs). The complete regulatory description on each SIAP is contained in the appropriate FAA Form 8260 and the National Flight Data Center (FDC)/Permanent (P) Notices to Airmen (NOTAM) which are incorporated by reference in the amendment under 5 U.S.C. 552(a), 1 CFR part 51, and § 97.20 of the Federal Aviation's Regulations (FAR). Materials incorporated by reference are available for examination or purchase as stated above.

The large number of SIAPs, their complex nature, and the need for a special format make their verbatim publication in the Federal Register expensive and impractical. Further, airmen do not use the regulatory text of the SIAPs, but refer to their graphic depiction of charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 of the Federal Aviation Regulations (14 CFR part 97) establishes, amends, suspends, or revokes SIAPs. For safety and timeliness of change considerations, this amendment incorporated only specific changes contained in the content of the following FDC/P NOTAMs for each SIAP. The SIAP information in some previously designated FDC/Temporary (FDC/T) NOTAMs is of such duration as to be permanent. With conversion to FDC/P NOTAMs, the respective FDC/T NOTAMs have been canceled.

The FDC/P NOTAMs for the SIAPs contained in this amendment are based on the criteria contained in the U.S. Standard for Terminal Instrument Procedures (TERPS). In developing these chart changes to SIAPs by FDC/P NOTAMs, the TERPS criteria were applied to only these specific conditions existing at the affected airports. All SIAP amendments in this rule have been previously issued by the FAA in a National Flight Date Center (FDC) Notice to Airmen (NOTAM) as an emergency action of immediate flight safety relating directly to published aeronautical charts. The circumstances which created the need for all these SIAP amendments requires making them effective in less than 30 days.

Further, the SIAPs contained in this amendment are based on the criteria contained in the TERPS. Because of the close and immediate relationship between these SIAPs and safety in air commerce, I find that notice and public procedure before adopting these SIAPs are impracticable and contrary to the public interest and, where applicable, that good cause exists for making these SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Navigation (air).

Issued in Washington, DC on April 3, 2001.
L. Nicholas Lacey,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 is revised to read as follows:

Authority: 49 U.S.C. 40103, 40113, 40120, 44701; 49 U.S.C. 106(g); and 14 CFR 11.49(b)(2).

2. Part 97 is amended to read as follows:

§§ 97.23, 97.25, 97.27, 97.29, 97.31, 97.33, 97.35 [Amended]

By amending: § 97.23 VOR, VOR/DME, VOR or TACAN, and VOR/DME or TACAN; § 97.25 LOC, LOC/DME, LDA, LDA/DME, SDF, SDF/DME; § 97.27 NDB, NDB/DME; § 97.29 ILS, ILS/DME, ISMLS, MLS/DME/ MLS/RNAV/ § 97.31 RADAR SIAPs; § 97.33 RNAV SIAPs; and § 97.35 COPTER SIAPs, identified as follows:

Effective Upon Publication

FDC date | State | City | Airport | FDC No. | Subject
03/07/01 | KS | INDEPENDENCE | INDEPENDENCE MUNI | 1/2397 | VOR OR GPS-A, AMDT 1B
03/09/01 | TX | CLEBURNE | CLEBURNE MUNI | 1/2436 | VOR/DME-A, ORIG LOC/DME RWY 15
03/09/01 | TX | CLEBURNE | CLEBURNE MUNI | 1/2437 | ORIG-A ILS/DME RWY 27R, ORIG
03/14/01 | FL | MIAMI | OPA LOCKA | 1/2557 | A
03/15/01 | IL | CHICAGO | CHICAGO O'HARE INTL | 1/2605 | ILS RWY R4, AMDT 6E
3/16/01 | NE | MINDEN | BIONEER VILLAGE FIELD | 1/2653 | VOR RWY 34, AMDT 1B
03/16/01 | NE | MINDEN | PIONEER VILLAGE FIELD | 1/2655 | GPS RWY 34, ORIG
03/16/01 | OR | MEDFORD | ROGUE VALLEY INTL—MEDFORD | 1/2657 | LOC/DME BC-B, AMDT 6
03/16/01 | NM | ALBUQUERQUE | ALBUQUERQUE INTL SUNPORT | 1/2663 | ILS RWY 3, ORIG-A
03/16/01 | LA | MARKSVILLE | MARKSVILLE MUNI | 1/2664 | VOR/DME-A, AMDT 3A
06/16/01 | SC | BEAUFORT | BEAUFORT COUNTY | 1/2675 | GPS RWY 24, ORIG
03/16/01 | SC | BEAUFORT | BEAUFORT COUNTY | 1/2678 | RADAR-1, AMDT 2
03/16/01 | TN | CHATTANOOGA | LOVELL FIELD | 1/2679 | ILS RWY 2, AMDT 6A
03/20/01 | NH | WHITEFIELD | MOUNT WASHINGTON REGIONAL | 1/2735 | NDB RWY 10 AMDT 7
03/20/01 | NH | WHITEFIELD | MOUNT WASHINGTON REGIONAL | 1/2736 | LOC RWY 10 AMDT 4A VOR OR GPS RWY 32
03/20/01 | NE | HASTINGS | HASTINGS MUNI | 1/2741 | AMDT 13B
03/20/01 | NE | HASTINGS | HASTINGS MUNI | 1/2743 | NDB RWY 14, AMD 12C
03/20/01 | NE | HASTINGS | HASTINGS MUNI | 1/2744 | VOR RWY 14, AMDT 16C NDB OR GPS RWY 23L
03/20/01 | OH | COLUMBUS | RICKENBACKER INTL | 1/2750 | ORIG-A NDB OR GPS RWY 5R
03/20/01 | OH | COLUMBUS | RICKENBACKER INTL | 1/2751 | ORIG-A
03/20/01 | OH | COLUMBUS | RICKENBACKER INTL | 1/2752 | ILS RWY 23L ORIG-C
03/21/01 | NC | FAYETTEVILLE | FAYETTEVILLE REGIONAL/GRANNI S FIELD | 1/2791 | NDB OR GPS RWY 4, AMDT 14B
03/22/01 | TX | HOUSTON | WILLIAM P. HOBBY | 1/2821 | VOR RWY 12R, AMDT 18A
03/22/01 | TX | HOUSTON | WILLIAM P. HOBBY | 1/2823 | VOR RWY 12R, AMDT 18A
03/22/01 | TX | HOUSTON | WILLIAM P. HOBBY | 1/2824 | VOR/DME RWY 30L, AMDT 16B
03/22/01 | TX | HOUSTON | WILLIAM P. HOBBY | 1/2825 | ILS RWY 30L, AMDT 5
03/22/01 | TX | HOUSTON | WILLIAM P. HOBBY | 1/2826 | ILS RWY 12R, AMDT 11B
03/22/01 | WA | SPOKANE | SPOKANE INTL | 1/2829 | RNAV (GPS RWY 21, ORIG
03/22/01 | AK | ANIAK | ANIAK | 1/2837 | 3
03/22/01 | AK | ANIAK | ANIAK | 1/2838 | ILS/DME RWY 10, AMDT 7
03/22/01 | UT | SALT LAKE CITY | SALT LAKE CITY INTL | 1/2842 | RNAV (GPS) RWY 34L, ORIG
03/22/01 | FL | MIAMI | KENDALL—TAMIAMI EXECUTIVE | 1/2853 | ILS RWY 9R, AMDT 8A
03/22/01 | SC | GREENVILLE | DONALDSON CENTER | 1/2854 | ILS RWY 5, AMDT 4A
03/22/01 | SC | GREENVILLE | DONALDSON CENTER | 1/2855 | NDB OR GPS RWY 5, AMDT 5B
03/22/01 | FL | MIAMI | KENDALL—TAMIAMI EXECUTIVE | 1/2856 | NDB OR GPS RWY 9R, AMDT 1
03/22/01 | TN | MEMPHIS | MEMPHIS INTL | 1/2858 | ILS RWY 18C, ORIG
03/22/01 | TX | ROBSTOWN | NUECES COUNTY | 1/2866 | VOR/DME-A, AMDT 3
03/22/01 | TX | ROBSTOWN | NUECES COUNTY | 1/2867 | GPS RWY 12, ORIG-B
03/22/01 | UT | SALT LAKE CITY | SALT LAKE CITY INTL | 1/2870 | RNAV (GPS) RWY 35, ORIG
03/22/01 | PA | PITTSBURGH | PITTSBURGH INTL | 1/2877 | 2
03/22/01 | NE | HASTINGS | HASTINGS MUNI | 1/2882 | GPS RWY 14, ORIG-B
03/22/01 | OK | EL RENO | EL RENO MUNI AIR PARK | 1/2894 | VOR/DME RWY 35, AMDT 1A
03/23/01 | FL | KEY WEST | KEY WEST INTL | 1/2898 | RADAR-1, AMDT 4A
03/23/01 | FL | KEY WEST | KEY WEST INTL | 1/2899 | GPS RWY 9, ORIG-A
03/23/01 | FL | KEY WEST | KEYWEST INTL | 1/2900 | GPS RWY 27, ORIG-A NDB OR GPS-A, AMDT
03/23/01 | FL | KEYWEST | KEYWEST INTL | 1/2902 | 15A
03/23/01 | OK | NORMAN | UNIVERSITY OF OKLAHOMA WESTHEIMER | 1/2918 | LOC RWY 3, AMDT 3C
03/23/01 | OK | NORMAN | UNIVERSITY OF OKLAHOMA WESTHEIMER | 1/2919 | VOR/DME RNAV RWY 3, ORIG-D
03/26/01 | FL | ORMOND BEACH | ORMOND BEACH MUNI | 1/2974 | VOR OR GPS RWY 17, AMDT 1B
03/26/01 | FL | ORMOND BEACH | ORMOND BEACH MUNI | 1/2976 | GPS RWY 8, ORIG
03/26/01 | FL | ORMOND BEACH | ORMOND BEACH MUNI | 1/2977 | RADAR-1, AMDT 2B
03/26/01 | WA | SPOKANE | SPOKANE INTL | 1/2992 | RNAV (GPS) RWY 3, ORIG GPS RWY 28, ORIG-B
03/26/01 | NM | SANTA FE NEW SMYRNA | SANTA FE MUNI NEW SMYRNA | 1/2993 | (Replaces FDC 1/2274)
03/27/01 | FL | BEACH NEW SMYRNA | BEACH MUNI NEW SMYRNA | 1/3020 | AMDT 1
03/27/01 | FL | BEACH | BEACH MUNI | 1/3023 | RADAR-1, AMDT 3
03/27/01 | AK | NOME | NOME | 1/3025 | GPS RWY 27, ORIG-B
03/27/01 | AK | NOME | NOME | 1/3026 | GPS RWY 9, ORIG-B
03/27/01 | AK | NOME | NOME ASPEN-PITKIN COUNTY/SARDY | 1/3027 | GPS RWY 2, ORIG-B
03/27/01 | CO | ASPEN | FIELD | 1/3034 | VOR/DME OR GPS-C AMDT 4B
03/27/01 | GA | SAVANNAH | SAVANNAH INTL | 1/3037 | VOR OR TACAN OR GPS RWY 27, AMDT 15C
03/27/01 | GA | SAVANNAH | SAVANNAH INTL | 1/3038 | ILS RWY 9, AMDT 25D
03/27/01 | GA | SAVANNAH | SAVANNAH INTL | 1/3039 | HI-ILS RWY 9, AMDT 5
03/27/01 | GA | SAVANNAH | SAVANNAH INTL | 1/3040 | HI-TACAN RWY 27, AMDT 3

[FR Doc. 01-8715 Filed 4-9-01; 8:45 am]

BILLING CODE 4910-13-M